GENERAL SERVICES ADMINISTRATION

48 CFR Parts 511 and 552

[GSAR Change 63; GSAR Case 2014-G504; Docket No. 2015-0003; Sequence No. 1]

RIN 3090-AJ53

General Services Administration Acquisition Regulation (GSAR); Unique Item Identification (UID)

AGENCIES: Office of Acquisition Policy, General Services Administration (GSA).

ACTION: Final rule.

SUMMARY: The General Services Administration (GSA) is issuing a final rule amending the General Services Administration Acquisition Regulation (GSAR) to remove the GSAR clause Unique Item Identification.

DATES: Effective: May 20, 2015.

FOR FURTHER INFORMATION CONTACT: Mr. James Tsujimoto, Program Analyst, at 202-208-3585, or via email at james.tsujimoto@gsa.gov for clarification of content. For information pertaining to status or publication schedules, contact the Regulatory Secretariat at 202-501-4755. Please cite GSAR case 2014-G504.

SUPPLEMENTARY INFORMATION:

I. Background

GSA published a proposed rule with a request for public comments in the Federal Register at 80 FR 6037 on February 4, 2015, to amend the GSAR to delete GSAR clause 552.211-93, Unique Item Identification (UID), and provide other conforming changes. No public comments were received on the proposed rule.

II. Discussion and Analysis

There were no comments received in response to the proposed rule by its closing date of April 6, 2015. Therefore, there are no changes made in the proposed rule.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

IV. Regulatory Flexibility Act

The General Services Administration certifies that this final rule will not have a significant economic impact on a substantial number of small entities within the meaning of the Regulatory Flexibility Act, 5 U.S.C. 601, et seq., because the deletion of the clause will not substantively change the reporting, recordkeeping, or compliance requirements for contractors.

V. Paperwork Reduction Act

The final rule does not contain any information collection requirements that require the approval of the Office of Management and Budget under the Paperwork Reduction Act (44 U.S.C. chapter 35).

List of Subjects in 48 CFR Parts 511 and 552

Government procurement.

Dated: May 13, 2015.
Jeffrey A. Koses,
Senior Procurement Executive, Office of Acquisition Policy, Office of Government-wide Policy.

Therefore, GSA amends 48 CFR parts 511 and 552 as set forth below:

1. The authority citation for 48 CFR parts 511 and 552 continues to read as follows:

Authority: 40 U.S.C. 121(c).

PART 511—DESCRIBING AGENCY NEEDS

511.204 [Amended]

2. Amend section 511.204 by removing paragraph (b)(12).

PART 552—SOLICITATION PROVISIONS AND CONTRACT CLAUSES

552.211-93 [Removed and Reserved]

3. Remove and reserve section 552.211-93.

[FR Doc. 2015-12208 Filed 5-19-15; 8:45 am]

BILLING CODE 6820-61-P